DEPARTMENT OF DEFENSE

National Imagery and Mapping Agency Privacy Act of 1974; System of Records

AGENCY: National Imagery and Mapping Agency, DoD.

ACTION: Notice to alter system of records.

SUMMARY: The National Imagery and Mapping Agency (NIMA) is altering a system of records notice in its existing inventory of record systems subject to the Privacy Act of 1974, (5 U.S.C. 552a), as amended. The alteration consists of adding a new category of individuals covered by the system of records, i.e., NIMA personnel who are claiming reimbursement of their real estate expenses for either the sale or purchase of their residence associated with a permanent change of station.

DATES: This proposed action will be effective without further notice on april 29, 2002, unless comments are received which result in a contrary determination.

ADDRESSES: Comments should be sent to the National Imagery and Mapping Agency, Office of General Counsel, 4600 Sangamore Avenue, Bethesda, MD 20816-5003.

FOR FURTHER INFORMATION CONTACT: Ms. Christine May on (301) 227-4142.

SUPPLEMENTARY INFORMATION: The National Imagery and Mapping Agency systems of records notices subject to the Privacy Act of 1974, (5 U.S.C. 552a), as amended, have been published in the Federal Register and are available from the address above.

The proposed system reports, as required by 5 U.S.C. 552a(r) of the Privacy Act of 1974, as amended, was submitted on March 20, 2002, to the House Committee on Government Reform, the Senate Committee on Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: March 25, 2002.
L.M. Bynum,
Alternate OSD Federal Register Liaison Officer, Department of Defense.

B0402-05; {tc /11 “B0402-05}

System name:

Legal Claims File (July 13, 1995, 60 FR 36124).

Changes:

* * * * *

Categories of individuals covered by the system:

Delete entry and replace with “NIMA personnel and other individuals having a claim against the Government for loss, damage, or destruction of personal property or for “NIMA personnel who are claiming reimbursement of their real estate expenses for either the sale or purchase of their residence associated with a permanent change of station (PCS). Any individual filing a tort claim against NIMA for damages, loss or destruction of property, personal injury or death resulting from negligence or wrongful act, or omission of acts by NIMA personnel and individuals against whom the Agency has legal claim.”

* * * * *

Authority for maintenance of the system:

Delete entry and replace with “5 U.S.C. 301, Departmental Regulations; 28 U.S.C. 2671-2680, Federal Torts Claims Act and II JTR, Chapter 14 (Joint Travel Regulations)”.

Purpose(s):

Delete entry and replace with “To document claims against the U.S. Government, involving NIMA personnel or property, for damage, loss, or destruction of personal property. To document claims of NIMA employees concerning real estate reimbursement claims adjudicated by the Office of the General Counsel.”

* * * * *

Storage:

Add to entry “and electronic records are maintained on computer server accessible only by authorized user name and password.”

Safeguards:

Delete entry and replace with “Records are maintained in a secured/locked file cabinets with access limited to authorized personnel whose duties require access. Automated files are protected by user name and password and are stored in a database that requires additional access permissions”.

* * * * *

Record source categories:

Delete entry and replace with “Related forms, correspondence, investigative reports and information gathered in anticipation of litigation, and opinions of Counsel and the NIMA individual’s claim form and accompanying documents and records from the NIMA Travel Office.”

* * * * *

B0402-05; {tc /11 “B0402-05}

System name:

Legal Claims File.

System location:

Primary System—Office of the General Counsel, National Imagery and Mapping Agency, Mail Stop L-32, 3200 S. Second Street, St. Louis, MO 63118-3399.

Decentralized Segments—Staff Judge Advocate, ATTN: ATZT-JA-CO, 125 East 8th Street, Fort Leonard Wood, MO 65473-8942.

Military District of Washington, ATTN: PAWJA-LA, 204 Lee Avenue, Fort Myer, VA 22211-1199.

Categories of individuals covered by the system:

NIMA personnel and other individuals having a claim against the Government for loss, damage, or destruction of personal property or for NIMA personnel who are claiming reimbursement of their real estate expenses for either the sale or purchase of their residence associated with a permanent change of station (PCS). Any individual filing a tort claim against NIMA for damages, loss or destruction of property, personal injury or death resulting from negligence or wrongful act, or omission of acts by NIMA personnel and individuals against whom the Agency has legal claim.

Categories of records in the system:

File contains individual's claims, related correspondence and processing papers, investigative reports, recommendations and opinions of the General Counsel's Office.

Authority for maintenance of the system:

5 U.S.C. 301, Departmental Regulations; 28 U.S.C. 2671-2680, Federal Torts Claims Act and II JTR, Chapter 14 (Joint Travel Regulations).

Purpose(s):

To document claims against the U.S. Government, involving NIMA personnel or property, for damage, loss, or destruction of personal property. To document claims of NIMA employees concerning real estate reimbursement claims adjudicated by the Office of the General Counsel.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD “Blanket Routine Uses” set forth at the beginning of NIMA's compilation of systems of records notices apply to this system.

Policies and practices for storing, retrieving, accessing, retaining, and disposing of records in the system:

Storage:

Paper record in file folders and electronic records are maintained on computer server accessible only by authorized user name and password.

Retrievability:

Filed alphabetically by last name of employee or by case name.

Safeguards:

Records are maintained in a secured/locked file cabinets with access limited to authorized personnel whose duties require access. Automated files are protected by user name and password and are stored in a database that requires additional access permissions

Retention and disposal:

Disapproved claims and claims involving a minor are destroyed 10 years after final action on the case. Approved claims are destroyed 5 years after final action on the case. PCS records that are reviewed by the Office of General Counsel are retained for 5 years and disposed of after 5 years by shredding. No records are transferred to the records center.

System manager(s) and address:

General Counsel, ST L-32, National Imagery and Mapping Agency, 3200 S. Second Street, St. Louis, MO 63118-3399.

Notification procedure:

Individuals seeking to determine whether information about themselves contained in this system should address written inquiries to National Imagery and Mapping Agency, Office of General Counsel, 4600 Sangamore Road, Mail Stop D-10, Bethesda, MD 20816-5003.

Written requests for information should contain the full name of the individual, current address and telephone number.

Record access procedures:

Individuals seeking access to information about themselves contained in this system of records should address written inquiries to the National Imagery and Mapping Agency, Office of General Counsel, 4600 Sangamore Road, Mail Stop D-10, Bethesda, MD 20816-5003.

Written requests for information should contain the full name of the individual, current address and telephone number, and Social Security Number.

Contesting record procedures:

NIMA's rules for accessing records, and for contesting contents and appealing initial agency determinations are published in NIMA Instruction 5500.7R1; 32 CFR part 320; or may be obtained from the system manager.

Record source categories:

Related forms, correspondence, investigative reports and information gathered in anticipation of litigation, and opinions of Counsel and the NIMA individual's claim form and accompanying documents and records from the NIMA Travel Office.

Exemptions claimed for the system:

None.

[FR Doc. 02-7541 Filed 3-28-02; 8:45 am]

BILLING CODE 5001-08-P